SECURITIES AND EXCHANGE COMMISSION

Sunshine Act Meeting; Notice

Federal Register Citation of Previous Announcement: 71 FR 41484, July 21, 2006.

Status: Closed Meeting.

Place: 100 F Street, NW., Washington, DC.

Date and Time of Previously Announced Meeting: Thursday, July 27, 2006 at 2 p.m.

Change in the Meeting: Deletion of Item.

The following item will not be considered during the Closed Meeting on Thursday, July 27, 2006: An adjudicatory matter.

The Commission determined that no earlier notice thereof was possible.

At times, changes in Commission priorities require alterations in the scheduling of meeting items. For further information and to ascertain what, if any, matters have been added, deleted or postponed, please contact the Office of the Secretary at (202) 551-5400.

Dated: July 25, 2006.
Jill M. Peterson,
Assistant Secretary.

[FR Doc. 06-6536 Filed 7-25-06; 11:14 am]

BILLING CODE 8010-01-P